NATIONAL CREDIT UNION ADMINISTRATION

12 CFR Part 741

Technical Amendment to Maximum Borrowing Authority Regulation to Delete a Reference From Amendatory Language; Correction

AGENCY: National Credit Union Administration (NCUA).

ACTION: Final rule; correction.

SUMMARY: The NCUA published in the Federal Register of February 25, 2004, a document revising its rule concerning maximum borrowing authority. There was an inadvertent error in amendatory language. This document corrects the amendatory language.

DATES: Effective on March 3, 2004.

FOR FURTHER INFORMATION CONTACT: Mary F. Rupp, Staff Attorney, Division of Operations, Office of General Counsel, at the above address or telephone: (703) 518-6540.

SUPPLEMENTARY INFORMATION: The NCUA published a document in the Federal Register of February 25, 2004 (69 FR 8545), amending § 741.2. The amendatory language included adding new paragraphs (b), (c) and (d). There is no paragraph (d). This amendment removes the reference to paragraph (d).

By the National Credit Union Administration Board on February 26, 2004.
Becky Baker,
Secretary of the Board.

[FR Doc. 04-4669 Filed 3-2-04; 8:45 am]

BILLING CODE 7535-01-P